DEPARTMENT OF ENERGY

Federal Energy Regulatory Commission

[Docket No. AD14-6-000]

New York Independent System Operator, Inc.; Notice of Technical Conference

By order dated August 13, 2013, in Docket No. ER13-1380-000, the Federal Energy Regulatory Commission (Commission) addressed a proposal by the New York Independent System Operator, Inc. (NYISO) to establish and recognize a new capacity zone that would encompass NYISO Load Zones G, H, I, and J (the G-J Locality).¹ In its order, the Commission directed its staff to hold a technical conference, in a separate proceeding, to discuss with interested parties whether or not to model Load Zone K as an export-constrained zone for future Demand Curve reset proceedings.²

¹ New York Indep. Sys. Operator, Inc., 144 FERC ¶ 61,126 (2013).

² Id. P 56.

Take notice that such conference will be held on February 26, 2014, from 9:00 a.m. to approximately 1:00 p.m. (Eastern Time). The conference will be held at the Federal Energy Regulatory Commission, 888 First Street NE., Washington, DC 20426. The technical conference will be led by staff, and will be open for the public to attend. An additional notice with further details and an agenda will be issued later.

Attendees may register in advance at the following Web page: https://www.ferc.gov/whats-new/registration/zone-k-02-26-14-form.asp. Advance registration is not required, but is encouraged. Parties attending in person should still allow time to pass through building security procedures before the 9:00am (Eastern Time) start time of the conference.

Following the conference, the Commission will consider post-technical conference comments submitted on or before March 26, 2014. Answers to post-technical conference comments are due by close of business on or before April 16, 2014.

The technical conference will be transcribed. Additionally, there will be a free webcast of the conference available through www.ferc.gov. The webcast will allow persons to listen to the technical conference, but not participate. Anyone with Internet access interested in viewing this conference can do so by navigating to www.ferc.gov Calendar of Events and locating this event in the Calendar. The event will contain a link to the webcast. Capitol Connection provides technical support for the webcasts and offers the option of listening to the conferences via phone-bridge for a fee. If you need technical support, please visit www.CapitolConnections.org or call (703) 993-3100.

Commission conferences are accessible under section 508 of the Rehabilitation Act of 1973. For accessibility accommodations, please send an email to accessibility@ferc.gov or call toll free 1-866-208-3372 (voice) or 202-502-8659 (TTY), or send a FAX to 202-208-2106 with the required accommodations.

All interested persons are permitted to attend. For more information about the technical conference, please contact:

Adria M. Woods (Technical Information), Office of Energy Market Regulation, Federal Energy Regulatory Commission, 888 First Street NE., Washington, DC 20426, (202) 502-8431, Adria.Woods@ferc.gov.

Sarah McKinley (Logistical Information), Office of External Affairs, Federal Energy Regulatory Commission, 888 First Street NE., Washington, DC 20426, (202) 502-8004, Sarah.McKinley@ferc.gov.

Dated: January 28, 2014.
Kimberly D. Bose,
Secretary.

[FR Doc. 2014-02370 Filed 2-4-14; 8:45 am]

BILLING CODE 6717-01-P